DEPARTMENT OF ENERGY

Federal Energy Regulatory Commission

[Project No. 2230-034]

City and Borough of Sitka, AK; Notice of Application Tendered for Filing With the Commission, Establishing Procedural Schedule for Relicensing, and a Deadline for Submission of Final Amendments

April 10, 2006.

Take notice that the following hydroelectric application has been filed with the Commission and is available for public inspection.

a. Type of Application: New Major License.

b. Project No.: 2230-034.

c. Date Filed: March 28, 2006.

d. Applicant: City and Borough of Sitka, Alaska.

e. Name of Project: Blue Lake Hydroelectric Project.

f. Location: On the Sawmill Creek, 5 miles southeast of the City of Sitka, Alaska. The project occupies land of the United States administered by the Forest Service.

g. Filed Pursuant to: Federal Power Act 16 U.S.C. 791(a)-825(r).

h. Applicant Contact: Charles Walls, Utility Director, City and Borough of Sitka, 105 Jarvis Street, Sitka, AK 99835, (907) 747-4000.

i. FERC Contact: Thomas Dean, (202) 502-6041 or thomas.dean@ferc.gov.

j. Cooperating agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Deadline for requesting cooperating agency status: May 30, 2006.

All documents (original and eight copies) should be filed with: Magalie R. Salas, Secretary, Federal Energy Regulatory Commission, 888 First Street, NE., Washington, DC 20426.

Requests for cooperating agency status may be filed electronically via the Internet in lieu of paper. The Commission strongly encourages electronic filings. See 18 CFR 385.2001(a)(1)(iii) and the instructions on the Commission's Web site (http://www.ferc.gov) under the “eFiling” link.

l. This application is not ready for environmental analysis at this time.

m. The existing Blue Lake Project consists of one development and two units as follows: The Blue Lake development consists of: (1) A 211-foot-high, 256-foot-long concrete arch dam equipped with a 140-foot-long spillway and a release valve at the base of the dam; (2) a 1,225-acre reservoir with a normal water surface elevation of 342 feet msl; (3) a 7,110-foot-long power conduit consisting of: (a) An 11.5-foot-diameter, 1,500-foot-long penstock; (b) an 84-inch-diameter, 460-foot-long penstock; (c) a 10-inch-diameter, 4,650-foot-long lower penstock; (d) an 84-inch-diameter, 500-foot-long penstock; (e) a 20-inch-diameter water supply tap; (f) an 84-inch-diameter butterfly valve; and (g) a 24-inch conduit drain valve; (4) a powerhouse containing two 3,000 kW generating units; (5) a 150-foot-long tailrace; (6) a 5-mile-long, 69-kV transmission line; and (7) appurtenant facilities.

The Fish Valve Unit consists of: (1) A 36-inch-diameter wye penstock connected to the power conduit; (2) a powerhouse containing one 670 kW generating unit; (3) a 7,700-foot-long, 12.47-kV transmission line; and (4) appurtenant facilities.

The Pulp Mill Feeder Unit consists of: (1) A 36-inch-diameter tee connected to the power conduit; (2) a 36-inch-diameter, 24-foot-long penstock; (3) a powerhouse containing one 870 kW generating unit; (4) a 470-foot-long 4.16-kV transmission line; and (5) other appurtenant facilities.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the Alaska State Historic Preservation Officer (SHPO), as required by § 106, National Historic Preservation Act, and the regulations of the Advisory Council on Historic Preservation, 36 CFR 800.4.

p. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intends to give at least 30 days for entities to comment on the EA, and will take into consideration all comments received on the EA before final action is taken on the license application.

Issue Acceptance or Deficiency Letter | May 2006.
Request Additional Information, if needed | May 2006.
Notice Soliciting Final Terms and Conditions | Aug. 2006.
Notice of the availability of the EA | Jan. 2007.
Ready for Commission's decision on the application | March 2007.

Final amendments to the application must be filed with the Commission no later than 30 days from the issuance date of the notice soliciting final terms and conditions.

Magalie R. Salas,
Secretary.

[FR Doc. E6-5618 Filed 4-14-06; 8:45 am]

BILLING CODE 6717-01-P